DEPARTMENT OF THE INTERIOR

Fish and Wildlife Service

[FWS-R2-ES-2011-N142; 20124-1112-0000-F2]

Draft Environmental Assessment and Draft Habitat Conservation Plan for Lower Colorado River Authority Transmission Services Corporation in Central Texas

AGENCY: Fish and Wildlife Service, Interior.

ACTION: Notice of availability of documents and announcement of public hearings.

SUMMARY: The Lower Colorado River Authority Transmission Services Corporation (applicant) has applied to the U.S. Fish and Wildlife Service (Service) for an incidental take permit under the Endangered Species Act of 1973, as amended. The applicant has completed a draft Habitat Conservation Plan (DHCP) as part of the application package. A draft Environmental Assessment (DEA) that evaluates the permit application in accordance with the requirements of the National Environmental Policy Act of 1969 has also been prepared. We are making the permit application package, including the application, DHCP, and DEA, available for public review and comment.

DATES: Comment Period: To ensure consideration of your written comments, we must receive them on or before close of business (4:30 p.m. C.S.T.) December 23, 2011.

Public Meetings: Two public meetings will be held in the transmission line development area during the public comment period. The dates, times, and locations of these meetings will be announced in local newspapers at least 2 weeks before each meeting and will also be posted on the following Web sites: http://www.fws.gov/southwest/es/AustinTexas/; http://www.lcra.org/energy/trans/crez/fed_envrio_compliance.html.

ADDRESSES: To find out how to obtain documents for review and where to submit comments, see Reviewing Documents in SUPPLEMENTARY INFORMATION. To submit comments, please use one of the following methods, and note that your comment is in reference to permit number TE-46542A-0:

• E-mail: fw2_aues_consult@fws.gov.

• U.S. Mail: Field Supervisor, Austin Ecological Services Field Office, 10711 Burnet Road, Suite 200, Austin, TX 78758-4460.

• Fax: 512/490-0974.

• We will also accept written and oral comments at both of the public meetings (see DATES).

When submitting comments, please reference permit number TE-46542A-0.

FOR FURTHER INFORMATION CONTACT: Mr. Adam Zerrenner, Field Supervisor, by U.S. mail at U.S. Fish and Wildlife Service, 10711 Burnet Road, Suite 200, Austin, TX 78758, or by phone at 512/490-0057.

SUPPLEMENTARY INFORMATION: Under the National Environmental Policy Act (NEPA), we advise the public that:

1. We have gathered the information necessary to determine impacts and formulate alternatives for the draft Environmental Assessment (DEA) related to the potential issuance of an incidental take permit (ITP) to Lower Colorado River Authority Transmission Services Corporation (LCRA; applicant); and

2. LCRA has developed a draft habitat conservation plan (DHCP) as part of the application for an ITP, which describes the measures LCRA has agreed to undertake to minimize and mitigate the effects of incidental take of federally listed species to the maximum extent practicable, pursuant to section 10(a)(1)(B) of the Endangered Species Act of 1973, as amended (Act).

LCRA has applied for an ITP (TE-46542A-0) under section 10(a)(1)(B) of the Act. The requested ITP, which would be in effect for a period of 30 years if granted, would authorize incidental take of two federally listed species (covered species), golden-cheeked warbler (Dendroica chrysoparia) and black-capped vireo (Vireo atricapilla). As described in the DHCP, the proposed incidental take would occur in Gillespie, Kendall, Kerr, Kimble, Mason, Menard, Schleicher, Sutton, and Tom Green Counties, Texas (Permit Area), and would result from activities associated with construction, maintenance, operation, and repair (both routine and emergency) of two Competitive Renewable Energy Zone (CREZ) transmission lines and their associated access roads (Covered Activities), which are required to be constructed by the Public Utility Commission of Texas (PUC).

The DEA considers the direct, indirect, and cumulative effects of the proposed action of permit issuance, including the measures that will be implemented to minimize and mitigate such impacts to the maximum extent practicable.

Background

We initially prepared a notice of intent (NOI) to prepare an Environmental Impact Statement and held public scoping meetings in connection with the applicant's requested permit. The NOI was published in the Federal Register on March 19, 2010 (75 FR 13299), and opened a comment period which lasted until June 17, 2010. A summary of comments provided during the 2010 scoping period, which included public meetings held April 19, 2010, in San Angelo, Texas; April 21, 2010, in Comfort, Texas; April 22, 2010, in Junction, Texas; April 26, 2010, in Lampasas, Texas; and April 27, 2010, in Fredericksburg, Texas, is available on the U.S. Fish and Wildlife Service's (Service) Web site at http://www.fws.gov/southwest/es/AustinTexas/ and on the applicant's Web site at http://www.lcra.org/energy/trans/crez/fed_envrio_compliance.html.

Prior to the applicant filing its formal application with the Service for an incidental take permit, the scope of the anticipated covered activities was reduced significantly. Specifically, what was once to be an application covering take associated with construction, operation, maintenance, and repair of four 345-killivolt (kV) transmission lines, whose routes were unknown and which could touch all or a portion of 14 counties, is now an application for a permit authorizing potential take of listed species in connection with two 345-kV transmission lines and their associated access roads whose routes are known. Potential impacts to species have been reduced substantially, and mitigation for those impacts meets or exceeds mitigation levels accepted by the Service in HCPs covering the same species.

Proposed Action

The proposed action involves the issuance of an ITP by the Service for the Covered Activities in the Permit Area, pursuant to section 10(a)(1)(B) of the Act. The ITP would cover “take” of the Covered Species associated with the construction, maintenance, operation, and repair of the transmission lines and associated access roads occurring within the Permit Area.

The requested term of the permit is 30 years. To meet the requirements of a section 10(a)(1)(B) ITP, the applicant has developed and proposes to implement its DHCP, which describes the conservation measures LCRA has agreed to undertake to minimize and mitigate for the impacts of the proposed incidental take of the Covered Species to the maximum extent practicable, and ensures that incidental take will not appreciably reduce the likelihood of the survival and recovery of these species in the wild.

Other Alternatives Considered

We considered two alternatives to the proposed action. However, alternative route selection was not considered as part of any alternatives, as neither the applicant nor the Service had the authority to select alternative routes. Route selection is solely within the legal authority and discretion of the PUC.

1. No Action—No ITP would be issued. Under this alternative, the applicant examined whether it was possible to construct transmission lines along the routes selected by the PUC without the likelihood of causing take of listed species. LCRA examined the options for minimizing clearing of potential habitat (including that occurring within the rights-of-way) and conducting all clearing and construction activities outside of the breeding seasons of the Covered Species. While this would reduce the impacts to Covered Species, it still resulted in “take,” since their habitat occurs within the alignments for both transmission lines. In addition to the inability to avoid “take,” this alternative would also result in increased costs, increased safety and reliability concerns, and no conservation benefit from mitigation for the Covered Species.

2. Maximum Take Avoidance Alternative—Under this alternative, the applicant would employ the avoidance and minimization measures described under the No Action alternative, but they would pursue an ITP for less take than under the Proposed Alternative. This alternative would also result in increased costs, increased safety and reliability concerns, and less conservation benefit for the Covered Species than under the Proposed Alternative.

Reviewing Documents

You may obtain copies of the DEA and DHCP by going to the Service's Web site at http://www.fws.gov/southwest/es/AustinTexas/ or LCRA's Web site at http://www.lcra.org/energy/trans/crez/fed_envrio_compliance.html. Alternatively, you may obtain CD-ROMs with electronic copies of these documents by writing to Mr. Adam Zerrenner, Field Supervisor, U.S. Fish and Wildlife Service, 10711 Burnet Road, Suite 200, Austin, TX 78758; calling 512/490-0057; or faxing 512/490-0974. A limited number of printed copies of the DEA and DHCP are also available, by request, from Mr. Zerrenner. Copies of the DEA and DHCP are also available for public inspection and review at the following locations, by appointment and written request only, 8 a.m. to 4:30 p.m.:

• Department of the Interior, Natural Resources Library, 1849 C. St., NW., Washington, DC 20240.

• U.S. Fish and Wildlife Service, 500 Gold Avenue, SW., Room 6034, Albuquerque, NM 87102.

• U.S. Fish and Wildlife Service, 10711 Burnet Road, Suite 200, Austin, TX 78758.

Persons wishing to review the application may obtain a copy by writing to the Regional Director, U.S. Fish and Wildlife Service, P.O. Box 1306, Room 6034, Albuquerque, NM 87103.

Public Availability of Comments

Written comments we receive become part of the public record associated with this action. Before including your address, phone number, e-mail address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act (16 U.S.C. 1531 et seq.) and its implementing regulations (50 CFR 17.22) and NEPA (42 U.S.C. 4321 et seq.) and its implementing regulations (40 CFR 1506.6).

Section 9 of the Act and its implementing regulations prohibit “take” of fish and wildlife species listed as threatened or endangered under section 4 of the Act. However, section 10(a) of the ESA authorizes us to issue permits to take listed wildlife species where such take is incidental to, and not the purpose of, otherwise lawful activities and where the applicant meets certain statutory requirements.

Joy E. Nicholopoulos,
Acting Regional Director, Southwest Region, Albuquerque, New Mexico.

[FR Doc. 2011-27395 Filed 10-21-11; 8:45 am]

BILLING CODE 4310-55-P